DEPARTMENT OF THE TREASURY

Office of Foreign Assets Control

Supplemental Identification Information for Thirteen Individuals and One Entity Designated Pursuant to Executive Order 13224

AGENCY: Office of Foreign Assets Control, Treasury.

ACTION: Notice.

SUMMARY: The Treasury Department's Office of Foreign Assets Control (“OFAC”) is publishing supplemental information for the names of thirteen individuals and one entity whose property and interests in property are blocked pursuant to Executive Order 13224 of September 23, 2001, “Blocking Property and Prohibiting Transactions With Persons Who Commit, Threaten To Commit, or Support Terrorism.”

DATES: The publishing of updated identification information by the Director of OFAC of the thirteen individuals and one entity in this notice, pursuant to Executive Order 13224, is effective on March 2, 2012.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (www.treas.gov/ofac) or via facsimile through a 24-hour fax-on-demand service, tel.: 202/622-0077.

Background

On September 23, 2001, the President issued Executive Order 13224 (the “Order”) pursuant to the International Emergency Economic Powers Act, 50 U.S.C. 1701-1706, and the United Nations Participation Act of 1945, 22 U.S.C. 287c. In the Order, the President declared a national emergency to address grave acts of terrorism and threats of terrorism committed by foreign terrorists, including the September 11, 2001 terrorist attacks in New York, Pennsylvania, and at the Pentagon. The Order imposes economic sanctions on persons who have committed, pose a significant risk of committing, or support acts of terrorism. The President identified in the Annex to the Order, as amended by Executive Order 13268 of July 2, 2002, 13 individuals and 16 entities as subject to the economic sanctions. The Order was further amended by Executive Order 13284 of January 23, 2003, to reflect the creation of the Department of Homeland Security.

Section 1 of the Order blocks, with certain exceptions, all property and interests in property that are in or hereafter come within the United States or the possession or control of United States persons, of: (1) Foreign persons listed in the Annex to the Order; (2) foreign persons determined by the Secretary of State, in consultation with the Secretary of the Treasury, the Secretary of the Department of Homeland Security and the Attorney General, to have committed, or to pose a significant risk of committing, acts of terrorism that threaten the security of U.S. nationals or the national security, foreign policy, or economy of the United States; (3) persons determined by the Director of OFAC, in consultation with the Departments of State, Homeland Security and Justice, to be owned or controlled by, or to act for or on behalf of those persons listed in the Annex to the Order or those persons determined to be subject to subsection 1(b), 1(c), or 1(d)(i) of the Order; and (4) except as provided in section 5 of the Order and after such consultation, if any, with foreign authorities as the Secretary of State, in consultation with the Secretary of the Treasury, the Secretary of the Department of Homeland Security and the Attorney General, deems appropriate in the exercise of his discretion, persons determined by the Director of OFAC, in consultation with the Departments of State, Homeland Security and Justice, to assist in, sponsor, or provide financial, material, or technological support for, or financial or other services to or in support of, such acts of terrorism or those persons listed in the Annex to the Order or determined to be subject to the Order or to be otherwise associated with those persons listed in the Annex to the Order or those persons determined to be subject to subsection 1(b), 1(c), or 1(d)(i) of the Order.

On March 2, 2012 the Director of OFAC supplemented the identification information for thirteen individuals and one entity whose property and interests in property are blocked pursuant to Executive Order 13224.

The supplemental identification information for the thirteen individuals and one entity is as follows:

Individuals

1. ABDAOUI, Youssef (a.k.a. ABDAOUI, Youssef Ben Abdul Baki Ben Youcef; a.k.a. “ABDELLAH”; a.k.a. “ABDULLAH”; a.k.a. “ABU ABDULLAH”), Piazza Giovane Italia n.2, Varese, Italy; Number 8/B Via Torino, Cassano Magnago (VA), Italy; DOB 4 Jun 1966; POB Kairouan, Tunisia; nationality Tunisia; Identification Number AO 2879097 (Italy) expires 30 Oct 2012; Passport G025057 issued 23 Jun 1999 expires 5 Feb 2004 (individual) [SDGT]

2. AL-LIBI, Abd al-Muhsin (a.k.a. ABU BAKR, Ibrahim Ali Muhammad; a.k.a. SABRI, Abdel Ilah; a.k.a. TANTOUCHE, Ibrahim Abubaker; a.k.a. TANTOUSH, Ibrahim Ali Abu Bakr; a.k.a. TANTOUSH, Ibrahim Abubaker; a.k.a. “ABD AL-MUHSI”; a.k.a. “ABD AL-RAHMAN”; a.k.a. “ABU ANAS”), Johannesburg, South Africa; DOB 1966; alt. DOB 27 Oct 1969; nationality Libya; Passport 203037 (Libya) (individual) [SDGT]

3. AMDOUNI, Mehrez (a.k.a. AL-AMDOUNI, Mehrez Ben Mahmoud Ben Sassi; a.k.a. AMDOUNI, Mehrez ben Tah; a.k.a. AMDOUNI, Meherez ben Ahdoud ben; a.k.a. FUSCO, Fabio; a.k.a. HAMDOUNI, Meherez; a.k.a. HASSAN, Mohamed; a.k.a. “ABU THALE”); DOB 18 Dec 1969; alt. DOB 25 May 1968; alt. DOB 18 Dec 1968; alt. DOB 14 Jul 1969; POB Tunis, Tunisia; alt. POB Naples, Italy; alt. POB Algeria; nationality Tunisia; Passport G737411 (Tunisia) issued 24 Oct 1990 expires 20 Sep 1997; alt. Passport 0801888 (Bosnia and Herzegovina) (individual) [SDGT]

4. KAHIE, Abdullahi Hussein, Bakara Market, Dar Salaam Buildings, Mogadishu, Somalia; 26 Urtegata Street, Oslo 0187, Norway; DOB 22 Sep 1959; POB Mogadishu, Somalia; nationality Norway; National ID No. 22095919778 (Norway); Passport 26941812 (Norway) issued 23 Nov 2008; alt. Passport 27781924 (Norway) issued 11 May 2011 expires 11 May 2020 (individual) [SDGT]

5. ASHRAF, Haji Muhammad (a.k.a. ASHRAF, Haji M.; a.k.a. MANSHA, Muhammad Ashraf; a.k.a. MANSHAH, Muhammad Ashraf; a.k.a. MUNSHA, Muhammad Ashraf); DOB 1955; POB Faisalabad, Pakistan; National ID No. 6110125312507 (Pakistan); alt. National ID No. 24492025390 (Pakistan); Passport A-374184 (Pakistan); alt. Passport AT0712501 (Pakistan) issued 12 Mar 2008 expires 11 Mar 2013 (individual) [SDGT]

6. BAHAZIQ, Mahmoud Mohammad Ahmed (a.k.a. BAHADHIQ, Mahmud; a.k.a. BAHADHIQ, Mahmud Muhammad Ahmad; a.k.a. BAHAZIQ, Mahmoud; a.k.a. “ABU 'ABD AL-'AZIZ”; a.k.a. “ABU ABDUL AZIZ”; a.k.a. “SHAYKH SAHIB”), Jeddah, Saudi Arabia; DOB 17 Aug 1943; alt. DOB 1943; alt. DOB 1944; alt. DOB 21 Jun 1944; POB India; citizen Saudi Arabia; nationality Saudi Arabia; National ID No. 1004860324 (Saudi Arabia); Passport C284181 (Saudi Arabia) issued 12 Aug 2000 expires 19 Jun 2005; Registration ID 4-6032-0048-1 (Saudi Arabia) (individual) [SDGT]

7. KHAN, Mohammad Naushad Alam (a.k.a. KHAN, Naushad Aalam; a.k.a. KHAN, Rahat Hasan; a.k.a. KHAN, Muhammad Nowshad Alam; a.k.a. KHAN, Muhammad Nawshad Alam); DOB 10 Aug 1971; alt. DOB Dec 1970; POB Karachi, Pakistan; National ID No. 4200004347195 (Pakistan); alt. National ID No. 50492460414 (Pakistan); Passport YZ4107191 (Pakistan) issued 15 Apr 2008 expires 14 Apr 2013; alt. Passport Booklet: A6169832 (Pakistan); alt. Passport YZ4107192 (Pakistan) issued 19 Feb 2009 expires 18 Feb 2014; alt. Passport Booklet: A8235074 (Pakistan); Holder of a Pakistan passport; Holder of a Bangladesh passport (individual) [SDGT]

8. LAKHVI, Zaki-ur-Rehman (a.k.a. ARSHAD, Abu Waheed Irshad Ahmad; a.k.a. LAKVI, Zakir Rehman; a.k.a. LAKVI, Zaki Ur-Rehman; a.k.a. REHMAN, Zakir; a.k.a. UR-REHMAN, Zaki; a.k.a. “CHACHAJEE”), Barahkoh, P.O. DO, Tehsil and District Islamabad, Pakistan; Chak No. 18/IL, Rinala Khurd, Tehsil Rinala Khurd, District Okara, Pakistan; DOB 30 Dec 1960; POB Okara, Pakistan; nationality Pakistan; National ID No. 61101-9618232-1 (Pakistan); alt. National ID No. 33960047268 (Pakistan); Passport AC8342321 (Pakistan) issued 22 Aug 2007 expires 20 Aug 2012; alt. Passport Booklet A4827048 (Pakistan) (individual) [SDGT]

9. MAKKI, Hafiz Abdul Rahman (a.k.a. MAKI, HAFAZ ABDUL RAHMAN; a.k.a. MAKKI, HAFIZ ABDUL REHMAN; a.k.a. MAKKI, ABDULRAHMAN; a.k.a. REHMAN, Hafiz Abdul), Muridke, Punjab Province, Pakistan; DOB 10 Dec 1954; alt. DOB 1948; POB Bahawalpur, Punjab Province, Pakistan; National ID No. 6110111883885 (Pakistan); alt. National ID No. 34454009709 (Pakistan); Passport CG9153881 (Pakistan) issued 2 Nov 2007 expires 31 Oct 2012; alt. Passport Booklet: A5199819 (Pakistan) (individual) [SDGT]

10. MUJAHID, Mohammed Yahya (a.k.a. AZIZ, Mohammad Yahya; a.k.a. MUJAHID, Muhammad Yahya; a.k.a. MUJAHID, Yahya); DOB 12 Mar 1961; POB Lahore, Punjab Province, Pakistan; alt. POB Sheikhupura, Pakistan; National ID No. 35404-1577309-9 (Pakistan); alt. National ID No. 26961341469 (Pakistan) (individual) [SDGT]

11. RAUF, Hafiz Abdur (a.k.a. RAOUF, Hafiz Abdul; a.k.a. RAUF, Hafiz Abdul), 4 Lake Road, Room No. 7, Choburji, Lahore, Pakistan; Dola Khurd, Lahore, Pakistan; 129 Jinnah Block, Awan Town, Multan Road, Lahore, Pakistan; 33 Street No. 3, Jinnah Colony, Tehsil Kabir Wala, District Khanewal, Pakistan; 5-Chamberlain Road, Lahore, Pakistan; DOB 25 Mar 1973; POB Sialkot, Punjab Province, Pakistan; National ID No. CNIC: 35202-540013-9 (Pakistan); alt. National ID No. NIC: 277-93-113495 (Pakistan); alt. National ID No. 27873113495 (Pakistan); Passport CM1074131 (Pakistan) issued 29 Oct 2008 expires 29 Oct 2013; alt. Passport Booklet: A7523531 (Pakistan) (individual) [SDGT]

12. SAEED, Muhammad (a.k.a. SAEED, Hafiz Muhammad; a.k.a. SAEED, Hafiz; a.k.a. SAEED, Hafiz Mohammad; a.k.a. SAEED HAFIZ, Muhammad; a.k.a. SAYED, Hafiz Mohammad; a.k.a. SAYEED, Hafez Mohammad; a.k.a. SAYID, Hafiz Mohammad; a.k.a. SYEED, Hafiz Mohammad; a.k.a. “HAFIZ SAHIB”; a.k.a. “TATA JI”), House No. 116 E, Mohalla Johar, Town: Lahore, Tehsil:, Lahore City, Lahore District, Pakistan; DOB 5 Jun 1950; POB Sargodha, Punjab, Pakistan; nationality Pakistan; National ID No. 3520025509842-7 (Pakistan); alt. National ID No. 23250460642 (Pakistan); Passport BE5978421 (Pakistan) issued 14 Nov 2007 expires 12 Nov 2012; alt. Passport Booklet A5250088 (Pakistan) (individual) [SDGT]

13. JIM'ALE, Ahmed Nur Ali (a.k.a. JIMALE, Ahmad Ali; a.k.a. JIMALE, Ahmed Ali; a.k.a. JIMALE, Shaykh Ahmed Nur; a.k.a. JIMALE, Sheikh Ahmed; a.k.a. JIM'ALE, Ahmad Nur Ali; a.k.a. JUMALE, Ahmed Nur; a.k.a. JUMALE, Ahmed Ali; a.k.a. JUMALI, Ahmed Ali), P.O. Box 3312, Dubai, United Arab Emirates; Mogadishu, Somalia; Djibouti, Djibouti; DOB 1954; POB Eilbur, Somalia; citizen Somalia; alt. citizen Djibouti; nationality Somalia; Passport A0181988 (Somalia) issued 1 Oct 2001 expires 23 Jan 2011; Additional Djiboutian passport issued in 2010. (individual) [SDGT]

Entity

1. AL RASHID TRUST (a.k.a. AL AMEEN TRUST; a.k.a. AL AMIN TRUST; a.k.a. AL AMIN WELFARE TRUST; a.k.a. AL MADINA TRUST; a.k.a. AL RASHEED TRUST; a.k.a. AL-AMEEN TRUST; a.k.a. AL-MADINA TRUST; a.k.a. AL-RASHEED TRUST; a.k.a. AL-RASHID TRUST; a.k.a. MAIMAR TRUST; a.k.a. MAYMAR TRUST; a.k.a. MEYMAR TRUST; a.k.a. MOMAR TRUST), Kitab Ghar, 4 Dar-el-Iftah, Nazimabad, Karachi, Pakistan; Office Dha'rb-i-M'unin, Room no. 3, Third Floor, Moti Plaza, near Liaquat Bagh, Murree Road, Rawalpindi, Pakistan; Jamia Masjid, Sulaiman Park, Begum Pura, Lahore, Pakistan; Office Dha'rb-i-M'unin, Z.R. Brothers, Katchehry Road, Chowk Yadgaar, Peshawar, Pakistan; Office Dha'rb-i-M'unin, Top Floor, Dr. Dawa Khan Dental Clinic Surgeon, Main Baxar, Mingora, Swat, Pakistan; Office Dha'rb-i-M'unin, opposite Khyber Bank, Abbottabad Road, Mansehra, Pakistan; University Road, Opposite Baitul Mukaram, Gulshan-e Iqbal, Karachi, Pakistan; Opposite Jang Press, I.I. Chundrigar Road, Karachi, Pakistan; TE-365, 3rd Floor, Deans Trade Centre, Peshawar Cantt., Pakistan; Operations in Afghanistan: Herat, Jalalabad, Kabul, Kandahar, Mazar Sharif. Also operations in: Kosovo, Chechnya [SDGT]

Dated: March 2, 2012.
Adam J. Szubin,
Director, Office of Foreign Assets Control.

[FR Doc. 2012-5821 Filed 3-9-12; 8:45 am]

BILLING CODE 4810-AL-P